DEPARTMENT OF TRANSPORTATION

Surface Transportation Board

[Docket No. FD 35344]

Union Pacific Railroad Company—Trackage Rights Exemption—BNSF Railway Company

Pursuant to a written trackage rights agreement dated December 16, 2009, BNSF Railway Company (BNSF) has agreed to grant overhead trackage rights to Union Pacific Railroad Company (UP) over a BNSF line of railroad known as the Thayer Subdivision extending between BNSF milepost 483.8 (Kentucky Street) and BNSF milepost 486.0 (KC Junction) in Memphis, Tenn., a distance of approximately 2.2 miles.

The transaction is scheduled to be consummated on May 6, 2010, the effective date of the exemption (30 days after the exemption is filed). The purpose of the trackage rights agreement is to allow UP to interchange railcars with Canadian National Railway Company (CN) at CN's Johnson Yard in Memphis.

As a condition to this exemption, any employees affected by the trackage rights will be protected by the conditions imposed in Norfolk and Western Ry.—Trackage Rights—Burlington N., Inc., 354 I.C.C. 605 (1978), as modified in Mendocino Coast Ry.—Lease and Operate—Cal. W. R.R., 360 I.C.C. 653 (1980), and any employees affected by the discontinuance of those trackage rights will be protected by the conditions set out in Or. Short Line R.R.—Aban. Portion—Goshen Branch Between Firth and Ammon, in Bingham and Bonneville Counties, Idaho, 360 I.C.C. 91 (1979).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by April 29, 2010 (at least 7 days before the exemption becomes effective).

An original and 10 copies of all pleadings, referring to Docket No. FD 35344, must be filed with the Surface Transportation Board, 395 E Street, SW., Washington, DC 20423-0001. In addition, a copy of each pleading must be served on Mack H. Shumate, Jr., Senior General Attorney, Union Pacific Railroad Company, 101 North Wacker Drive, Room #1920, Chicago, IL 60606.

Board decisions and notices are available on our Web site at “http://www.stb.dot.gov.”

Decided: April 19, 2010.
By the Board, Rachel D. Campbell, Director, Office of Proceedings.
Kulunie L. Cannon,
Clearance Clerk.

[FR Doc. 2010-9305 Filed 4-21-10; 8:45 am]

BILLING CODE 4915-01-P